DEPARTMENT OF HOMELAND SECURITY

Federal Emergency Management Agency

[Docket ID FEMA-2024-0002; Internal Agency Docket No. FEMA-B-2437]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Alabama:
St. Clair | Unincorporated areas of St. Clair County (23-04-6468P). | The Honorable Stan Batemon, Chair, St. Clair County Board of Commissioners, 165 5th Avenue, Suite 100, Ashville, AL 35953. | St. Clair County Engineering Department, 31588 Highway 231, Ashville, AL 35953. | https://msc.fema.gov/portal/advanceSearch. | Aug. 23, 2024 | 010290
Arizona:
Yavapai | City of Prescott (22-09-1249P). | The Honorable Phil Goode, Mayor, City of Prescott, 201 South Cortez Street, Prescott, AZ 86303. | Public Works Department, 433 North Virginia Street, Prescott, AZ 86301. | https://msc.fema.gov/portal/advanceSearch. | Jul. 31, 2024 | 040098
Yavapai | Unincorporated areas of Yavapai County (22-09-1249P). | James Gregory, Chair, Yavapai County Board of Supervisors, 1015 Fair Street, Prescott, AZ 86305. | Yavapai County Hall, 1015 Fair Street, Prescott, AZ 86305. | https://msc.fema.gov/portal/advanceSearch. | Jul. 31, 2024 | 040093
Colorado:
Arapahoe | City of Centennial (23-08-0194P). | The Honorable Stephanie Piko, Mayor, City of Centennial, 13133 East Arapahoe Road, Centennial, CO 80112. | Southeast Metro Stormwater Authority, 7437 South Fairplay Street, Centennial, CO 80112. | https://msc.fema.gov/portal/advanceSearch. | Sep. 6, 2024 | 080315
El Paso | City of Manitou Springs (23-08-0292P). | The Honorable John Graham, Mayor, City of Manitou Springs, 606 Manitou Avenue, Manitou Springs, CO 80829. | City Hall, 606 Manitou Avenue, Manitou Springs, CO 80829. | https://msc.fema.gov/portal/advanceSearch. | Aug. 28, 2024 | 080063
Larimer | City of Fort Collins (22-08-0636P). | The Honorable Jeni Arndt, Mayor, City of Fort Collins, P.O. Box 580, Fort Collins, CO 80522. | City Hall, 700 Wood Street, Fort Collins, CO 80521. | https://msc.fema.gov/portal/advanceSearch. | Jul. 24, 2024 | 080102
Larimer | City of Loveland (22-08-0337P). | The Honorable Jacki Marsh, Mayor, City of Loveland, 500 East 3rd Street, Suite 330, Loveland, CO 80537. | City Hall, 700 Wood Street, Loveland, CO 80537. | https://msc.fema.gov/portal/advanceSearch. | Aug. 19, 2024 | 080103
Larimer | Unincorporated areas of Larimer County (22-08-0337P). | John Kefalas, Chair, Larimer County Board of Commissioners, P.O. Box 1190, Fort Collins, CO 80522. | Larimer County Engineering Department, 200 West Oak Street, Suite 3000, Fort Collins, CO 80521. | https://msc.fema.gov/portal/advanceSearch. | Aug. 19, 2024 | 080101
Larimer | Unincorporated areas of Larimer County (22-08-0636P). | John Kefalas, Chair, Larimer County Board of Commissioners, P.O. Box 1190, Fort Collins, CO 80522. | Larimer County Engineering Department, 200 West Oak Street, Suite 3000, Fort Collins, CO 80521. | https://msc.fema.gov/portal/advanceSearch. | Jul. 24, 2024 | 080101
Connecticut:
New Haven | City of Meriden (23-01-0147P). | The Honorable Kevin Scarpati, Mayor, City of Meriden, 142 East Main Street, Meriden, CT 06450. | Public Works Department, 142 East Main Street, Meriden, CT 06450. | https://msc.fema.gov/portal/advanceSearch. | Aug. 8, 2024 | 090081
New Haven | City of Meriden (24-01-0126P). | The Honorable Kevin Scarpati, Mayor, City of Meriden, 142 East Main Street, Meriden, CT 06450. | Public Works Department, 142 East Main Street, Meriden, CT 06450. | https://msc.fema.gov/portal/advanceSearch. | Aug. 28, 2024 | 090081
Florida:
Orange | City of Orlando (24-04-0053P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Sep. 9, 2024 | 120186
Orange | Unincorporated areas of Orange County (23-04-5522P). | The Honorable Jerry L. Demings, Mayor, Orange County, 201 South Rosalind Avenue, 5th Floor, Orlando, FL 32801. | Orange County Stormwater Management Division, 4200 South John Young Parkway, Orlando, FL 32839. | https://msc.fema.gov/portal/advanceSearch. | Aug. 30, 2024 | 120179
Volusia | City of Daytona Beach (23-04-5711P). | The Honorable Derrick Henry, Mayor, City of Daytona Beach, 301 South Ridgewood Avenue, Daytona Beach, FL 32114. | City Hall, 301 South Ridgewood Avenue, Daytona Beach, FL 32114. | https://msc.fema.gov/portal/advanceSearch. | Aug. 26, 2024 | 125099
Walton | City of Freeport (23-04-5559P). | The Honorable Russ Barley, Mayor, City of Freeport, 112 Highway 20 West, Freeport, FL 32439. | City Hall, 112 Highway 20 West, Freeport, FL 32439. | https://msc.fema.gov/portal/advanceSearch. | Sep. 5, 2024 | 120319
Kentucky: Fayette | Lexington-Fayette Urban, County Government, (23-04-5603P). | The Honorable Linda Gorton, Mayor, Lexington-Fayette Urban, County Government, 101 East Main Street, Lexington, KY 40507. | Engineering Department, 101 East Vine Street, Suite 400, Lexington, KY 40507. | https://msc.fema.gov/portal/advanceSearch. | Aug. 9, 2024 | 210067
Maine: York | Town of Kennebunkport (24-01-0144P). | D. Michael Weston, Chair, Town of Kennebunkport Board of Selectmen, 6 Elm Street, Kennebunkport, ME 04046. | Planning and Code Enforcement Department, 6 Elm Street, Kennebunkport, ME 04046. | https://msc.fema.gov/portal/advanceSearch. | Jul. 18, 2024 | 230170
North Carolina:
Durham | Unincorporated areas of Durham County (23-04-6337P). | Nida Allam, Chair, Durham County Board of Commissioners, 200 East Main Street, Durham, NC 27701. | Durham City-County Planning Department, 101 City Hall Plaza, Durham, NC 27701. | https://msc.fema.gov/portal/advanceSearch. | Sept. 5, 2024 | 370085
Watauga | Unincorporated areas of Watauga County (23-04-3107P). | Larry Turnbow, Chair, Watauga County Board of Commissioners, 814 West King Street, Suite 205, Boone, NC 28607. | Watauga County Planning and Inspections Department, 126 Poplar Grove Connector, Suite 201, Boone, NC 28607. | https://msc.fema.gov/portal/advanceSearch. | May 16, 2024 | 370251
Pennsylvania:
Dauphin | Township of Derry (23-03-0300P). | Chris Abruzzo, Chair, Township of Derry Board of Supervisors, 600 Clearwater Road, Hershey, PA 17033. | Department of Community Development, 600 Clearwater Road, Hershey, PA 17033. | https://msc.fema.gov/portal/advanceSearch. | Aug. 23, 2024 | 420376
Philadelphia | City of Philadelphia (24-03-0065P). | The Honorable Cherelle L. Parker, Mayor, City of Philadelphia, 1 South Penn Square, Suite 215, Philadelphia, PA 19102. | Department of Licenses and Inspections, 1401 JFK Boulevard, Philadelphia, PA 19102. | https://msc.fema.gov/portal/advanceSearch. | Sep. 3, 2024 | 420757
South Carolina:
Berkeley | Unincorporated areas of Berkeley County (22-04-5275P). | Johnny Cribb, Berkeley County Supervisor, 1003 North Highway 52, Moncks Corner, SC 29461. | Berkeley County Flood Map Repository, 1003 North Highway 52, Moncks Corner, SC 29461. | https://msc.fema.gov/portal/advanceSearch. | Aug. 22, 2024 | 450029
York | Unincorporated areas of York County (23-04-6210P). | David Hudspeth, York County Manager, 6 South Congress Street, York, SC 29745. | York County Planning and Development Services Department, 18 West Liberty Street, York, SC 29745. | https://msc.fema.gov/portal/advanceSearch. | Aug. 22, 2024 | 450193
Texas:
Atascosa | Unincorporated areas of Atascosa County (23-06-1680P). | The Honorable Weldon Cude, Atascosa County Judge, 1 Courthouse Circle Drive, Suite 206, Jourdanton, TX 78026. | Atascosa County Courthouse, 1 Courthouse Circle Drive, Jourdanton, TX 78026. | https://msc.fema.gov/portal/advanceSearch. | Aug. 8, 2024 | 480014
Collin and Denton | City of Celina (23-06-2493P). | The Honorable Ryan Tubbs, Mayor, City of Celina, 142 North Ohio Street, Celina, TX 75009. | City Hall, 142 North Ohio Street, Celina, TX 75009. | https://msc.fema.gov/portal/advanceSearch. | Aug. 27, 2024 | 480133
Collin | Unincorporated areas of Collin County (23-06-2493P). | The Honorable Chris Hill, Collin County Judge, 2300 Bloomdale Road, McKinney, TX 75071. | Collin County Juvenile Justice Alternative Education Program Building, 4690 Community Avenue, Suite 200, McKinney, TX 75071. | https://msc.fema.gov/portal/advanceSearch. | Aug. 27, 2024 | 480130
Denton | Unincorporated areas of Denton County (23-06-2493P). | The Honorable Andy Eads, Denton County Judge, 1 Courthouse Drive, Suite 3100, Denton, TX 76208. | Denton County Development Services Department, 3900 Morse Street, Denton, TX 76208. | https://msc.fema.gov/portal/advanceSearch. | Aug. 27, 2024 | 480774
Harris | City of Houston (23-06-1337P). | The Honorable John Whitmire, Mayor, City of Houston, P.O. Box 1562, Houston, TX 77251. | Floodplain Management Department, 1002 Washington Avenue, Houston, TX 77002. | https://msc.fema.gov/portal/advanceSearch. | Jul. 29, 2024 | 480296
Harris | Unincorporated areas of Harris County (23-06-1337P). | The Honorable Lina Hidalgo, Harris County Judge, 1001 Preston Street, Suite 911, Houston, TX 77002. | Harris County Permit Office, 1111 Fannin Street, 8th Floor, Houston, TX 77002. | https://msc.fema.gov/portal/advanceSearch. | Jul. 29, 2024 | 480287
Smith | City of Tyler (23-06-2411P). | The Honorable Don Warren, Mayor, City of Tyler, P.O. Box 2039, Tyler, TX 75710. | Development Center, 423 West Ferguson Street, Tyler, TX 75702. | https://msc.fema.gov/portal/advanceSearch. | Sep. 3, 2024 | 480571

[FR Doc. 2024-12006 Filed 5-30-24; 8:45 am]

BILLING CODE 9110-12-P